DEPARTMENT OF THE TREASURY

Customs Service

[T.D. 03-03]

Recordation of Trade Name: “ORTHOTEC”

AGENCY: Customs Service, Treasury.

ACTION: Notice of final action.

SUMMARY: This document provides notice that “ORTHOTEC” is recorded by Customs as the trade name for Orthotec, L.L.C., a Delaware Limited Liability Company organized under the laws of the State of Delaware, located at 9595 Wilshire Blvd., Suite 502, Beverly Hills, California 90212. This application for trade name recordation was properly submitted to Customs and published in the Federal Register. As no public comments in opposition to the recordation of this trade name was received by Customs within the 60-day comment period, the trade name is duly recorded with Customs and will remain in force as long as this trade name is used by this corporation, unless other action is required.

EFFECTIVE DATE: January 7, 2003.

FOR FURTHER INFORMATION CONTACT: Gwendolyn Savoy, Intellectual Property Rights Branch, Office of Regulations & Rulings, U.S. Customs Service, 1300 Pennsylvania Avenue, NW., (Mint Annex) Washington, DC 20229; (202) 572-8710.

SUPPLEMENTARY INFORMATION:

Background

Trade names adopted by business entities may be recorded with Customs to afford the particular business entity with increased commercial protection. Customs procedure for recording trade names is provided at § 133.12 of the Customs Regulations (19 CFR 133.12) pursuant to section 42 of the Act of July 5, 1946, as amended (15 U.S.C. 1124). Pursuant to this regulatory provision, the Orthotec, L.L.C., a Delaware Limited Liability Company organized under the laws of the State of Delaware, and located at 9595 Wilshire Blvd., Suite 502, Beverly Hill, California 90212, applied to Customs for protection of its trade name “ORTHOTEC''.

On Thursday, November 7, 2002, a notice of application for the recordation of the trade name “ORTHOTEC” was published in the Federal Register (67 FR 67894). The notice advised that before final action was taken on the application, consideration would be given to any relevant data, views, or arguments submitted in writing by any person in opposition to the recordation of this trade name and received not later than January 6, 2003. The comment period closed January 6, 2003. No comments were received during the comment period. Accordingly, as provided by § 133.12 of the Customs Regulations, “ORTHOTEC” is recorded with Customs as the trade name of Orthotec, L.L.C., and will remain in force as long as this trade name is used by this corporation, unless other action is required.

The trade name is used on medical devices, more specifically, surgical implants made of stainless steel or titanium for spinal surgery, comprised of hooks, bolts, screws, rods, instruments and containers to hold the goods and instruments.

Dated: January 7, 2003.
Joanne Roman Stump,
Chief, Intellectual Property Rights Branch.

[FR Doc. 03-648 Filed 1-10-03; 8:45 am]

BILLING CODE 4820-02-P